DEPARTMENT OF THE TREASURY

Open Meeting of the President's Advisory Council on Financial Capability

AGENCY: Department of the Treasury.

ACTION: Notice of meeting.

SUMMARY: The President's Advisory Council on Financial Capability (“Council”) will convene its first meeting on November 30, 2010, in the Cash Room of the Main Treasury Building, 1500 Pennsylvania Avenue, NW., Washington, DC, beginning at 2 p.m. Eastern Time. The meeting will be open to the public. The purpose of the meeting is to discuss organizational matters and strategic areas of focus.

DATES: The meeting will be held on November 30, 2010, at 2 p.m. Eastern Time.

Submission of Written Statements: The public is invited to submit written statements to the Council. Written statements should be sent by any one of the following methods:

Electronic Statements

E-mail ofe@do.treas.gov; or

Paper Statements

Send paper statements to the Department of the Treasury, Office of Financial Education and Financial Access, Main Treasury Building, 1500 Pennsylvania Avenue, NW., Washington, DC 20220.

In general, the Department will make all statements available in their original format, including any business or personal information provided such as names, addresses, e-mail addresses, or telephone numbers, for public inspection and photocopying in the Department's library, Room 1428, Main Department Building, 1500 Pennsylvania Avenue, NW., Washington, DC 20220, on official business days between the hours of 10 a.m. and 5 p.m. You can make an appointment to inspect statements by calling (202) 622-0990. All statements received, including attachments and other supporting materials, are part of the public record and subject to public disclosure. You should only submit information that you wish to make publicly available.

FOR FURTHER INFORMATION CONTACT: Dubis Correal, Director, Office of Financial Education, Department of the Treasury, 1500 Pennsylvania Avenue, NW., Washington, DC 20220, at (202) 622-5770 or ofe@do.treas.gov.

SUPPLEMENTARY INFORMATION: On January 29, 2010, the President signed Executive Order 13530, creating the Council to assist the American people in understanding financial matters and making informed financial decisions, and thereby contribute to financial stability. The Council is composed of two ex officio Federal officials and 12 non-governmental members appointed by the President with relevant backgrounds, such as financial services, consumer protection, financial access, and education. The role of the Council is to advise the President and the Secretary of the Treasury on means to promote and enhance individuals' and families' financial capability.

In accordance with section 10(a) of the Federal Advisory Committee Act, 5 U.S.C. App. 2 and the regulations thereunder, Dubis Correal, Designated Federal Officer of the Council, has ordered publication of this notice that the Council will convene its first meeting on November 30, 2010, in the Cash Room in the Main Treasury Building, 1500 Pennsylvania Avenue, NW., Washington, DC beginning at 2 p.m. Eastern Time. The meeting will be open to the public. Because the meeting will be held in a secured facility, members of the public who plan to attend the meeting must RSVP with their name as shown on a government-issued ID, organization represented (if any), phone number, date of birth, Social Security number and country of citizenship (if other than U.S.). To register, please go to http://www.treasury.gov/ofe and click on the President's Advisory Council on Financial Capability or call (202) 622-5770 by 5 p.m. Eastern Time on November 23, 2010. For entry into the Main Treasury Building on the date of the meeting, attendees must present a government-issued ID, such as a driver's license or passport, which includes a photo and date of birth.

The purpose of this meeting is to introduce the members of the Council and discuss general organizational matters and strategic areas of focus, including providing recommendations to the Administration on means to effectively implement the Federal Financial Literacy and Education Commission's National Strategy for Financial Literacy 2010. Representatives of the Financial Literacy and Education Commission will also be in attendance to present the Strategy to the Council.

Dated: October 29, 2010.
Alastair Fitzpayne,
Executive Secretary, U.S. Department of the Treasury.

[FR Doc. 2010-28063 Filed 11-4-10; 8:45 am]

BILLING CODE 4810-25-P